DEPARTMENT OF AGRICULTURE

Forest Service

Boundary Technical Correction for the McKenzie Wild and Scenic River “Lower and Upper Portions”, Willamette National Forest, Lane County, OR

AGENCY: Forest Service, USDA.

ACTION: Notice of availability.

SUMMARY: In accordance with Section 3(b) of the Wild and Scenic Rivers Act, the USDA Forest Service, Washington Office, is transmitting the technical correction for the boundary of the McKenzie Wild and Scenic River “Lower Portion” and “Upper Portion” to Congress.

FOR FURTHER INFORMATION CONTACT: Information may be obtained by contacting the following office: Willamette National Forest, 3106 Pierce Parkway Suite D, Springfield, OR 97477, (541) 225-6300.

Individuals who use telecommunication devices for the deaf (TDD) may call the Federal Information Relay Service (FIRS) at 1-800-877-8339 between 8 a.m. and 8 p.m., Eastern Time, Monday through Friday.

SUPPLEMENTARY INFORMATION: The McKenzie Wild and Scenic River “Lower and Upper Portions” boundary is available for review at the following offices: USDA Forest Service, Recreation, Yates Building, 14th and Independence Avenues SW., Washington, DC 20024; USDA Forest Service, Pacific Northwest Region, 333 SW First Avenue, Portland, Oregon 97208-3623.

The Omnibus Oregon Wild and Scenic Rivers Act of 1988 (Pub. L. 100-557) designated the McKenzie River, Oregon, as a Wild and Scenic River, to be administered by the Secretary of Agriculture. As specified by law, the boundary will not be effective until ninety (90) days after Congress receives the transmittal.

Dated: August 13, 2012.
Maureen T. Hyzer,
Deputy Regional Forester.

[FR Doc. 2012-20226 Filed 8-16-12; 8:45 am]

BILLING CODE 3410-11-P